LEGAL SERVICES CORPORATION

45 CFR Part 1631

Expenditure of Grant Funds

AGENCY: Legal Services Corporation.

ACTION: Final rule.

SUMMARY: This final rule deletes in its entirety the Legal Services Corporation's regulation at 45 CFR part 1631, Expenditure of Grant Funds. The deletion is warranted because the statutory authority for part 1631 is no longer the prevailing rule of law.

DATES: This final rule becomes effective March 6, 2006.

FOR FURTHER INFORMATION CONTACT: Mattie C. Condray, Senior Assistant General Counsel, Office of Legal Affairs, Legal Services Corporation, 3333 K Street, NW., Washington, DC 20007; 202-295-1624 (ph); 202-337-6519 (fax); mcondray@lsc.gov.

SUPPLEMENTARY INFORMATION: Part 1631 provides that LSC grant recipients may not expend LSC funds except as in accordance with the restrictions and provisions contained in the Corporation's Fiscal Year 1986 appropriations measure (Pub. L. 99-180, 99 Stat. 1136), unless such funds are expended pursuant to a waiver from the Corporation. Part 1631 was promulgated in 1986 in response to Congressional concerns that some pre-1982 funds were being held by recipients and spent on activities which were not prohibited at the time the funds were appropriated, but which were later prohibited (and on which recipients could not spend currently appropriated funds). 51 FR 24826 (July 9, 1986).

In 2005, there is no longer any concern that recipients have any pre-1982 funds to spend. In addition, in 1996, Congress adopted new restrictions and provisions applicable to recipients of LSC funds which supersede the restrictions in Public Law 99-180. Public Law 104-134, 110 Stat. 1321. These restrictions have been incorporated by reference in each subsequent appropriation, including the current appropriation. Public Law 108-447, 118 Stat. 2809. These restrictions have been separately incorporated into LSC's regulations and removal of part 1631 will have no effect on the later restrictions and provisions imposed by Public Law 104-134. See, e.g., 45 CFR part 1610.

In light of the above, LSC published a Notice of Proposed Rulemaking (“NPRM”) on November 3, 2005 (70 FR 66814), proposing to remove and reserve part 1631 from Chapter XVI of Title 45 of the Code of Federal Regulations. LSC received no comments on the NPRM. Accordingly, as part 1631 is now obsolete, LSC is deleting part 1631 in its entirety. LSC believes this action will streamline LSC's regulations and avoid any potential confusion the continued existence of part 1631 might create.

PART 1631—[REMOVED AND RESERVED]

For reasons set forth above, and under the authority of 42 U.S.C. 2996g(e), LSC removes and reserves 45 CFR part 1631.

Victor M. Fortuno,
Vice President & General Counsel.

[FR Doc. 06-997 Filed 2-2-06; 8:45 am]

BILLING CODE 7050-01-P